SMALL BUSINESS ADMINISTRATION

Public Federal Regulatory Enforcement Fairness Roundtable; Region IV Regulatory Fairness Board

The Small Business Administration Region IV Regulatory Fairness Board and the SBA Office of the National Ombudsman, will hold a Public Roundtable on Thursday, January 17, 2002 at 1 p.m. at Capital Plaza Holiday Inn, 405 Wilkinson Blvd., Frankfort, Kentucky 40601, to provide small business owners and representatives of trade associations with an opportunity to share information concerning the federal regulatory enforcement and compliance environment.

Anyone wishing to attend or to make an oral presentation must contact Jeri Grant in writing or by fax, in order to be put on the agenda. Jeri Grant, Kentucky District Office, U.S. Small Business Administration, Room 188, 600 Dr. Martin Luther King, Jr. Place, Louisville, KY 40202, Phone (502) 582-5971 ext. 224, fax (502) 582-5009, e-mail jeri.grant@sba.gov.

For more information see our web site at http://www.sba.gov/ombudsman/events/dsp_roundtable.html.

Steve Tupper,
Committee Management Officer.

[FR Doc. 02-1045 Filed 1-15-02; 8:45 am]

BILLING CODE 8025-01-P